DEPARTMENT OF COMMERCE

Patent and Trademark Office

Submission for OMB Review; Comment Request; Patent Law Treaty

The United States Patent and Trademark Office (USPTO) will submit to the Office of Management and Budget (OMB) for clearance the following proposal for collection of information under the provisions of the Paperwork Reduction Act of 1995.

Agency: United States Patent and Trademark Office, Department of Commerce.

Title: Patent Law Treaty.

OMB Control Number: 0651-0073.

Form Number(s): There are no forms in this information collection.

Type of Request: Revision of a currently approved information collection.

Number of Respondents: 650 respondents per year.

Average Hours per Response: The USPTO estimates that it will take the public 1 hour to gather the necessary information, prepare the appropriate document, and submit the information to the USPTO. Approximately 99% of the total responses for this information collection will be submitted electronically.

Burden Hours: 650 hours.

Hourly Cost Burden: $284,700.

Annual (non-hourly) Cost: $1,130,054.

Needs and Uses: The public uses this information collection to seek restoration of the right of priority to a prior-filed foreign application or of the right to the benefit of a prior-filed provisional application.

The information in this information collection can be submitted electronically through EFS-Web (Electronic Filing System), the USPTO's Web-based electronic filing system, as well as on paper. The USPTO is therefore accounting for both electronic and paper submissions in this information collection.

The information collected, maintained, and used in this information collection is based on OMB and USPTO guidelines. This includes the basic information quality standards established in the Paperwork Reduction Act of 1995, in OMB Circular A-130, and in the OMB information quality guidelines.

Affected Public: Individuals or households; businesses or other for profits; and not-for-profit institutions.

Frequency: On occasion.

Respondent's Obligation: Required to obtain or retain benefits.

OMB Desk Officer: Nicholas A. Fraser, email: Nicholas_A._Fraser@omb.eop.gov. Once submitted, the request will be publicly available in electronic format through reginfo.gov. Follow the instructions to view Department of Commerce information collections currently under review by OMB.

Further information can be obtained by:

• Email: InformationCollection@uspto.gov. Include “0651-0073 information request” in the subject line of the message.

• Mail: Kimberly Hardy, Information Collections Officer, Office of the Chief Administrative Officer, United States Patent and Trademark Office, P.O. Box 1450, Alexandria, VA 22313-1450.

Written comments and recommendations for the proposed information collection should be sent on or before March 2, 2020 to Nicholas A. Fraser, OMB Desk Officer, via email to Nicholas_A._Fraser@omb.eop.gov, or by fax to 202-395-5167, marked to the attention of Nicholas A. Fraser.

Marcie Lovett,
Chief, Records and Information Governance Branch, Office of the Chief Administrative Officer, Office of Administrative Services, Strategic and Data Transport Division.

[FR Doc. 2020-01850 Filed 1-30-20; 8:45 am]

BILLING CODE 1410-30-P